FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than March 25, 2020.

A. Federal Reserve Bank of Kansas City (Dennis Denney, Assistant Vice President) 1 Memorial Drive, Kansas City, Missouri 64198-0001:

1. Aubrey Reed Cavett Deupree, Atlanta, Georgia, and William Williams Deupree III, Germantown, Tennessee, individually and together as members of a group acting in concert; to retain voting shares of Commercial Holding Company and thereby indirectly retain voting shares of Commercial Bank and Trust Company, both of Paris, Tennessee.

Board of Governors of the Federal Reserve System, March 5, 2020.
Yao-Chin Chao,
Assistant Secretary of the Board.

[FR Doc. 2020-04857 Filed 3-9-20; 8:45 am]

BILLING CODE 6210-01-P